DEPARTMENT OF TRANSPORTATION

Federal Aviation Administration

Third Meeting—RTCA Special Committee 217/EUROCAE WG 44—Airport Mapping Databases

AGENCY: Federal Aviation Administration (FAA), DOT.

ACTION: Notice of RTCA Special Committee 217 meeting: Airport Mapping Databases.

SUMMARY: The FAA is issuing this notice to advise the public of a meeting of RTCA Special Committee 217 meeting: Airport Mapping Databases

DATES: The meeting will be held on January 26-30, 2009, from 9 a.m. to 5 p.m.

ADDRESSES: The meeting will be held at Honeywell, 21111 N. 19th Avenue, Phoenix, AZ 85036-1111, Contact: Allan Hart, Telephone: Office: 602-436-1098, Cell: 602-317-5414, Fax: 602-822-7333.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 217 meeting. The agenda will include:

26 January

• Opening Plenary (Chairmen's remarks and introductions)

• Review and approve meeting agenda

• Review and approval of meeting minutes of previous meeting

• Discussion

• Schedule for this week

• Schedule for next meetings

• Action Items

• Presentations

• Final Review and Comments (FRAC) process

27 January

• Final Review and Comments (FRAC) process

28 January

• Final Review and Comments (FRAC) process

• Begin work on revisions to DO-272, DO-276 and DO-291

• Review new Terms of Reference for application to new work

• Determine need for subgroups

• Presentations as appropriate

29 January

• Work on revisions to DO-272, DO-276, and DO-291

30 January

• Work on revisions to DO-272, DO-276, and DO-291

• Plenary Session

• Summarize action items

• Determine and agree on action plan

• Closing Plenary (Meeting Plans and Dates, Other Business)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 11, 2008.
Francisco Estrada C.,
RTCA Advisory Committee.

[FR Doc. E8-30034 Filed 12-17-08; 8:45 am]

BILLING CODE 4910-13-P